DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2015, through March 31, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “Sustained, or had significantly aggravated, any illness, disability, injury, or condition not set forth in the Vaccine Injury Table but which was caused by” one of the vaccines referred to in the Table, or

b. “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: April 17, 2015.
James Macrae,
Acting Administrator.

List of Petitions Filed

1. Leanna Babb, Yuma, Arizona, Court of Federal Claims No: 15-0195V

2. Avery Kranz and Alyssa Kranz on behalf of M. K., Millburn, New Jersey, Court of Federal Claims No: 15-0196V

3. Avery Kranz, Millburn, New Jersey, Court of Federal Claims No: 15-0197V

4. Carol Williams, Morgantown, West Virginia, Court of Federal Claims No: 15-0198V

5. Thomas Holland, Cataumet, Massachusetts, Court of Federal Claims No: 15-0199V

6. Mario Caruso, Clovis, California, Court of Federal Claims No: 15-0200V

7. Marilyn Akyuz, Brooklyn, New York, Court of Federal Claims No: 15-0201V

8. Andrew Bussa, Boston, Massachusetts, Court of Federal Claims No: 15-0202V

9. Peggy Lafon, Crowley, Texas, Court of Federal Claims No: 15-0203V

10. Rosemary St. George, Boston, Massachusetts, Court of Federal Claims No: 15-0204V

11. David G. Smith, Billerica, Massachusetts, Court of Federal Claims No: 15-0205V

12. Carin Ing-Marie Malkin, Sarasota, Florida, Court of Federal Claims No: 15-0206V

13. Tamie Blesi, Minneapolis, Minnesota, Court of Federal Claims No: 15-0208V

14. Tamie Blesi, Minneapolis, Minnesota, Court of Federal Claims No: 15-0209V

15. James Collins, Jr., Concord, North Carolina, Court of Federal Claims No: 15-0210V

16. Annabella Chin, Pembroke, Florida, Court of Federal Claims No: 15-0214V

17. Tisia Green, Cheektowaga, New York, Court of Federal Claims No: 15-0218V

18. Tate Takahashi, Honolulu, Hawaii, Court of Federal Claims No: 15-0219V

19. Dorothy Keegan, Rochester, New York, Court of Federal Claims No: 15-0220V

20. Brandene LaPorte, Philadelphia, Pennsylvania, Court of Federal Claims No: 15-0221V

21. Melvin Keith Castle, New Bern, North Carolina, Court of Federal Claims No: 15-0222V

22. Sarah Yoon on behalf of N.Y., Valencia, California, Court of Federal Claims No: 15-0224V

23. Bernard Halverson on behalf of Susan Halverson, Deceased, Somers Point, New Jersey, Court of Federal Claims No: 15-0227V

24. Jean L. Buck, Las Vegas, Nevada, Court of Federal Claims No: 15-0231V

25. Joseph Bourche, Boulder, Colorado, Court of Federal Claims No: 15-0232V

26. Keith Saunders, Onawa, Iowa, Court of Federal Claims No: 15-0233V

27. Mary Axelson on behalf of A. A., Phoenix, Arizona, Court of Federal Claims No: 15-0234V

28. Kristen Silverio on behalf of G. L., Phoenix, Arizona, Court of Federal Claims No: 15-0235V

29. Phyllis Phipps, Bluffton, Indiana, Court of Federal Claims No: 15-0238V

30. Travis Morgan, Franklin, Tennessee, Court of Federal Claims No: 15-0239V

31. Carl S. Fish, Folsom, California, Court of Federal Claims No: 15-0244V

32. Rami Hatter, Dale City, California, Court of Federal Claims No: 15-0245V

33. Tarah Gramza on behalf of J. G., Mesa, Arizona, Court of Federal Claims No: 15-0247V

34. Angela Bogue, Louisburg, North Carolina, Court of Federal Claims No: 15-0250V

35. Joseph Willett, Wake Forest, North Carolina, Court of Federal Claims No: 15-0252V

36. Scott Siciliano and Kathleen Siciliano on behalf of E. S., Smithtown, New York, Court of Federal Claims No: 15-0253V

37. Janet Florence, Glassboro, New Jersey, Court of Federal Claims No: 15-0255V

38. Allison Boman on behalf of R. B., Rock Springs, Wyoming, Court of Federal Claims No: 15-0256V

39. Jordan Holtz, Sussex, Wisconsin, Court of Federal Claims No: 15-0257V

40. Robert Richie, Atoka, Oklahoma, Court of Federal Claims No: 15-0258V

41. Sandra E. Horvath, San Jose, California, Court of Federal Claims No: 15-0260V

42. Lawrence Marra, Jr., Bethlehem, Pennsylvania, Court of Federal Claims No: 15-0261V

43. Ameena Jaafar on behalf of A. M., Windsor, Connecticut, Court of Federal Claims No: 15-0267V

44. Brian Badger, Owensboro, Kentucky, Court of Federal Claims No: 15-0273V

45. John Harbrucker, Kansas City, Kansas, Court of Federal Claims No: 15-0274V

46. Maureen McGrath, Sturgeon Bay, Wisconsin, Court of Federal Claims No: 15-0275V

47. Jane Privitera, Baldwin, New York, Court of Federal Claims No: 15-0276V

48. Raquel Davis on behalf of M. D., Boston, Massachusetts, Court of Federal Claims No: 15-0277V

49. Janice Schroeder, Austin, Texas, Court of Federal Claims No: 15-0278V

50. Brittany Stallings Benoit and Arsene Benoit on behalf of Gabriel Cash Benoit, Deceased, Quitman, Mississippi, Court of Federal Claims No: 15-0279V

51. Annette Dominguez and Lydia Fazekas on behalf of Rebecca C. Arana, Deceased, Beverly Hills, California, Court of Federal Claims No: 15-0280V

52. Rita Glynn, St. Paul, Minnesota, Court of Federal Claims No: 15-0283V

53. Malissa Ajeti, Gilroy, California, Court of Federal Claims No: 15-0284V

54. Shawn Orgel-Olson, Boston, Massachusetts, Court of Federal Claims No: 15-0285V

55. George Swaiss, Santa Clara, California, Court of Federal Claims No: 15-0286V

56. Ann Wyborski, Vienna, Virginia, Court of Federal Claims No: 15-0295V

57. Nadara Shives, Boston, Massachusetts, Court of Federal Claims No: 15-0296V

58. Joseph Sullivan, Sarasota, Florida, Court of Federal Claims No: 15-0300V

59. Robert VanOsdol, Dallas, Texas, Court of Federal Claims No: 15-0303V

60. Melissa Intini on behalf of Vanni Mae Intini, Fort Bragg, North Carolina, Court of Federal Claims No: 15-0304V

61. Erich Micheal Gram, Huntersville, North Carolina, Court of Federal Claims No: 15-0305V

62. Edward M. Haney, San Pablo, California, Court of Federal Claims No: 15-0310V

63. Charles Rohrer, Cedar Rapids, Iowa, Court of Federal Claims No: 15-0311V

64. Jovan Ragia, Dallas, Texas, Court of Federal Claims No: 15-0312V

65. Karen Ryf, Oshkosh, Wisconsin, Court of Federal Claims No: 15-0313V

66. Jaymeeni Patel, Atlanta, Georgia, Court of Federal Claims No: 15-0318V

67. Angela Waters, Seneca, South Carolina, Court of Federal Claims No: 15-0320V

68. Beatrice Thomure, Boston, Massachusetts, Court of Federal Claims No: 15-0322V

69. Annmarie Auer, Boston, Massachusetts, Court of Federal Claims No: 15-0323V

70. Sara Olivia Cain, Raleigh, North Carolina, Court of Federal Claims No: 15-0325V

71. Nicholas Reinking and Hilary Katherine Reinking on behalf of M. R., Phoenix, Arizona, Court of Federal Claims No: 15-0326V

72. Philip Power and April Power on behalf of C. P., Cary, North Carolina, Court of Federal Claims No: 15-0327V

[FR Doc. 2015-09602 Filed 4-23-15; 8:45 am]

BILLING CODE 4165-15-P